DEPARTMENT OF COMMERCE

Foreign-Trade Zones Board

[B-76-2015]

Authorization of Production Activity; Foreign-Trade Subzone 238B; CEI-Roanoke, LLC (Cosmetics and Personal Care Products Bottling); Roanoke, Virginia

On November 6, 2015, the New River Valley Economic Development Alliance, grantee of FTZ 238, submitted a notification of proposed production activity to the Foreign-Trade Zones (FTZ) Board on behalf of CEI-Roanoke, LLC, operator of Subzone 238B in Roanoke, Virginia.

The notification was processed in accordance with the regulations of the FTZ Board (15 CFR part 400), including notice in the Federal Register inviting public comment (80 FR 71771-71772, November 17, 2015). The FTZ Board has determined that no further review of the activity is warranted at this time. The production activity described in the notification is authorized, subject to the FTZ Act and the FTZ Board's regulations, including Section 400.14.

Dated: March 11, 2016.
Andrew McGilvray,
Executive Secretary.

[FR Doc. 2016-06177 Filed 3-17-16; 8:45 am]

BILLING CODE 3510-DS-P